NUCLEAR REGULATORY COMMISSION

[NRC-2023-0001]

Sunshine Act Meetings

TIME AND DATE: Weeks of July 3, 10, 17, 24, 31, August 7, 2023. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Closed.

Members of the public may request to receive the information in these notices electronically. If you would like to be added to the distribution, please contact the Nuclear Regulatory Commission, Office of the Secretary, Washington, DC 20555, at 301-415-1969, or by email at Wendy.Moore@nrc.gov.

MATTERS TO BE CONSIDERED:

Week of July 3, 2023

There are no meetings scheduled for the week of July 3, 2023.

Week of July 10, 2023—Tentative

Tuesday, July 11, 2023

10:00 a.m. Executive Branch Briefing on NRC International Activities (Closed Ex. 1 & 9)

Week of July 17, 2023—Tentative

There are no meetings scheduled for the week of July 17, 2023.

Week of July 24, 2023—Tentative

There are no meetings scheduled for the week of July 24, 2023.

Week of July 31, 2023—Tentative

There are no meetings scheduled for the week of July 31, 2023.

Week of August 7, 2023—Tentative

There are no meetings scheduled for the week of August 7, 2023.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: June 28, 2023.
For the Nuclear Regulatory Commission.
Wesley W. Held,
Policy Coordinator, Office of the Secretary.

[FR Doc. 2023-14105 Filed 6-28-23; 4:15 pm]

BILLING CODE 7590-01-P